DEPARTMENT OF TRANSPORTATION

Federal Highway Administration

Notice To Rescind a Notice of Intent To Prepare a Supplemental Draft Environmental Impact Statement; U.S. 231 Dubois County, IN

AGENCY: Federal Highway Administration (FHWA), DOT.

ACTION: Notice to rescind a Notice of Intent to prepare an Environmental Impact Statement.

SUMMARY: The FHWA is issuing this notice to advise the public that we are rescinding the Notice of Intent (NOI) to prepare a Supplemental Environmental Impact Statement (SEIS) for improvements that were proposed for U.S. 231 Jasper Huntingburg project in Dubois County, Indiana. In March 2004, FHWA released the U.S. 231 Draft EIS. The NOI for the SEIS was published in the Federal Register on June 2, 2010.

FOR FURTHER INFORMATION CONTACT: Michelle Allen, Planning/Environmental Specialist, Federal Highway Administration, Indiana Division, 575 North Pennsylvania Street, Room 254, Indianapolis, Indiana, Telephone: (317) 226-7344.

SUPPLEMENTARY INFORMATION: The FHWA, in cooperation with the Indiana Department of Transportation, is rescinding the NOI to prepare a Supplemental Draft Environmental Impact Statement (SDEIS) for the U.S. 231 Jasper Huntingburg project in Dubois County, Indiana. Due to a reevaluation of the traffic information, the project is no longer warranted and the Notice of Intent is rescinded.

Authority: 23 U.S.C. 31.5; 23 CFR 771.123; 49 CFR 1.48.

Dated: January 14, 2014.
Richard J. Marquis,
Division Administrator, Indianapolis, Indiana.

[FR Doc. 2014-01498 Filed 1-24-14; 8:45 am]

BILLING CODE P